ENVIRONMENTAL PROTECTION AGENCY

[EPA-HQ-OPP-2011-0959; FRL-9343-5]

Pesticide Reregistration Performance Measures and Goals; Annual Progress Report; Notice of Availability

AGENCY: Environmental Protection Agency (EPA).

ACTION: Notice of availability.

SUMMARY: This notice announces the availability of EPA's progress report in meeting its performance measures and goals for pesticide reregistration during fiscal year 2011.

FOR FURTHER INFORMATION CONTACT: Carol P. Stangel, Pesticide Re-evaluation Division (7508P), Office of Pesticide Programs, Environmental Protection Agency, 1200 Pennsylvania Ave. NW., Washington, DC 20460-0001; telephone number: (703) 308-8007; email address: stangel.carol@epa.gov.

SUPPLEMENTARY INFORMATION:

I. Why is EPA announcing the availability of this report?

The Federal Insecticide, Fungicide, and Rodenticide Act (FIFRA) requires EPA to publish information about EPA's annual achievements in meeting its performance measures and goals for pesticide reregistration. The report for fiscal year 2011 discusses the integration of tolerance reassessment with the reregistration process, and describes the status of various regulatory activities associated with reregistration and tolerance reassessment. The 2011 report also gives total numbers of products reregistered and products registered under the “fast-track” provisions of FIFRA.

II. How can i get a copy of the 2011 report?

1. Docket. The 2011 report is available at http://www.regulations.gov, under docket ID number EPA-HQ-OPP-2011-0959.

2. EPA Web site. The 2011 report is also available on EPA's Web site at http://www.epa.gov/pesticides/reregistration/reports.htm.

III. Can I comment on this report?

Although not subject to a formal comment period, EPA welcomes input from stakeholders and the general public. Written comments, identified by the docket identification number EPA-HQ-OPP-2011-0959, would be most helpful if received by EPA on or before 60 days after date of publication of this notice.

Submit your comments, identified by docket identification (ID) number EPA-HQ-OPP-2011-0959, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

List of Subjects

Environmental protection, Pesticides and pests.

Dated: March 21, 2012.
James Jones,
Acting Assistant Administrator, Office of Chemical Safety and Pollution Prevention.

[FR Doc. 2012-7885 Filed 3-30-12; 8:45 am]

BILLING CODE 6560-50-P